DEPARTMENT OF THE INTERIOR

[Docket No. ONRR-2012-0003]

U.S. Extractive Industries Transparency Initiative Stakeholder Assessment and Multi-Stakeholder Group Options

AGENCY: Office of the Secretary, Interior.

ACTION: Notice.

SUMMARY: The U.S. Department of the Interior (Interior) has retained an independent facilitator, the Consensus Building Institute (CBI), to conduct a stakeholder assessment as part of the U.S. Extractive Industries Transparency Initiative (USEITI) implementation process. On May 18, 2012, Interior will receive and publish CBI's findings regarding options for forming a U.S. multi-stakeholder group that will be responsible for determining how USEITI will be implemented. By this notice, Interior is providing the public advance notice of the opportunity to comment between May 18 and June 29, 2012 on CBI's assessment and findings. Comments may be provided in writing or in person at public listening sessions and a public workshop. Details will be provided by Federal Register Notice at a later date.

DATES: The public listening sessions, webinar and workshop dates are:

Session 1—Anchorage, Alaska Public Listening Session, May 30, 2012.

Session 2—Public Webinar, June 1, 2012.

Session 3—Pittsburgh, Pennsylvania Public Listening Session, June 11, 2012.

Session 4—New Orleans, Louisiana Public Listening Session, June 12, 2012.

Session 5—Washington, DC Public Workshop, June 22, 2012.

FOR FURTHER INFORMATION CONTACT: Ben Nussdorf, telephone (202) 254-5573, fax number (202) 254-5589, email benjamin.nussdorf@onrr.gov.

SUPPLEMENTARY INFORMATION: On February 24th, 2012, Interior published a notice in the Federal Register seeking public comment on the formation of a multi-stakeholder group to implement USEITI (74 FR 11151). In that notice, Interior stated that it would hold a series of public listening sessions to provide additional opportunities for public comment. In March, Interior held those listening sessions in St. Louis, Missouri; Denver, Colorado; Houston, Texas; and Washington, DC. CBI analyzed the input from these four public listening sessions, interviews with potential stakeholders, and written comments that were submitted to Interior. This input will form the basis of CBI's independent stakeholder assessment and findings regarding options for establishing the U.S. multi-stakeholder group, which will be responsible for implementing USEITI.

In response to feedback received during the first public comment period, once Interior receives the assessment from CBI on May 18, 2012, it will be published and made available online at www.doi.gov/EITI. Alternatively, you may request a copy of the assessment from Ben Nussdorf, whose contact information is listed previously in this notice. We encourage stakeholders and members of the public to participate in the additional public comment period held from May 18-June 29, 2012, to gather feedback on the stakeholder assessment and recommended options for establishing the U.S. multi-stakeholder group. During the May 18-June 29 public comment period, three public listening sessions, a public webinar, and a public workshop will be held as listed previously in this notice. Further details regarding specific times and locations will be provided in advance via Federal Register Notice and online at www.doi.gov/EITI.

Background: In September 2011, President Barack Obama announced the United States' commitment to participate in the Extractive Industries Transparency Initiative. EITI is a signature initiative of the U.S. National Action Plan for the international Open Government Partnership and offers a voluntary framework for governments and companies to publicly disclose in parallel the revenues paid and received for extraction of oil, gas and minerals owned by the state. The design of each framework is country-specific, and is developed through a multi-year, consensus based process by a multi-stakeholder group comprised of government, industry and civil society representatives. On October 25, President Obama named Secretary of the Interior Ken Salazar as the U.S. Senior Official responsible for implementing USEITI. In response, Secretary Salazar posted a White House blog the same day, committing to work with industry and civil society to implement USEITI. For further information on EITI, please visit the USEITI Web page at http://www.doi.gov/EITI.

Dated: April 27, 2012.
Amy Holley,
Acting Assistant Secretary, Policy, Management and Budget.

[FR Doc. 2012-10663 Filed 5-2-12; 8:45 am]

BILLING CODE 4310-T2-P